DEPARTMENT OF COMMERCE

International Trade Commission

[C-570-980]

Crystalline Silicon Photovoltaic Cells, Whether or Not Assembled Into Modules, From the People's Republic of China: Notice of Amended Final Results of the 2017 Countervailing Duty Administrative Review

AGENCY: Enforcement and Compliance, International Trade Administration, Department of Commerce.

SUMMARY: The Department of Commerce (Commerce) is amending its notice of the final results of the sixth administrative review of the countervailing duty (CVD) order on crystalline silicon photovoltaic cells, whether or not assembled into modules (solar cells), from the People's Republic of China (China). The period of review (POR) is January 1, 2017, through December 31, 2017.

DATES: Applicable April 2, 2021.

FOR FURTHER INFORMATION CONTACT: Gene H. Calvert, AD/CVD Operations, Office VII, Enforcement and Compliance, International Trade Administration, Department of Commerce, 1401 Constitution Avenue NW, Washington, DC 20230; telephone: (202) 482-3586.

SUPPLEMENTARY INFORMATION:

Background

On December 9, 2020, Commerce published the final results of the 2017 administrative review of the CVD order on solar cells from China in the Federal Register.¹ On December 2, 2020, LONGi Solar Technology Co. Ltd. (LONGi) submitted a ministerial error allegation stating that Commerce incorrectly identified it as “LERRI Solar Technology Co., Ltd.” (LERRI) when, according to LONGi, its name is “LONGi Solar Technology Co. Ltd. (a.k.a. LERRI Solar Technology Co., Ltd.).” On December 28, 2020, ministerial error allegations were timely submitted by JA Solar Technology Yangzhou Co., Ltd. (JA Solar),² Risen Energy Co., Ltd. (Risen Energy),³ and Trina Solar Co., Ltd. (formerly Changzhou Trina Solar Energy Co., Ltd.) (Trina Solar).⁴ JA Solar alleged that Commerce made certain errors when calculating its benefits regarding the Provision of Solar Grade Polysilicon for Less Than Adequate Remuneration (LTAR) and the Provision of Land for LTAR programs. Risen Energy alleged that Commerce relied on incorrect inland freight costs when calculating its benefits for the Provision of Solar Glass for LTAR and the Provision of Aluminum Extrusions for LTAR programs. Finally, Trina Solar alleged that Commerce identified it incorrectly in the Final Results. No interested party commented on any of these allegations.

¹ See Crystalline Silicon Photovoltaic Cells, Whether or Not Assembled Into Modules, from the People's Republic of China: Final Results of Countervailing Duty Administrative Review; 2017, 85 FR 79163 (December 9, 2020) (Final Results), and accompanying Issues and Decision Memorandum (IDM).

² See JA Solar's Letter, “Crystalline Silicon Photovoltaic Cells, Whether or Not Assembled into Modules from the People's Republic of China: Ministerial Error Comments,” dated December 28, 2020.

³ See Risen Energy's Letter, “Crystalline Silicon Photovoltaic Cells from the People's Republic of China: Ministerial Error,” dated December 28, 2020.

⁴ See Trina Solar's Letter, “Crystalline Silicon Photovoltaic Cells, Whether or Not Assembled Into Modules from the People's Republic of China: Request for Correction of Clerical Error in Final Results and Forthcoming Draft Customs,” dated December 28, 2020.

Scope of the Order

The merchandise covered by the order is crystalline silicon photovoltaic cells, and modules, laminates, and panels, consisting of crystalline silicon photovoltaic cells, whether or not partially or fully assembled into other products, including, but not limited to, modules, laminates, panels, and building integrated materials.⁵ Merchandise covered by the order is classifiable under subheading 8501.61.0000, 8507.20.80, 8541.40.6020, 8541.40.6030, and 8501.31.8000 of the Harmonized Tariff Schedule of the United States (HTSUS). Although the HTSUS subheadings are provided for convenience and customs purposes, our written description of the scope of the order is dispositive.

⁵ For a complete description of the scope of the order, see Final Results IDM.

Ministerial Errors

Section 351.224(e) of Commerce's regulations provides that Commerce will analyze any comments received and, if appropriate, correct any ministerial error by amending the final determination or the final results of the review. Section 751(h) of the Tariff Act of 1930, as amended (the Act), and 19 CFR 351.224(f) define a “ministerial error” as an error “in addition, subtraction, or other arithmetic function, clerical error resulting from inaccurate copying, duplication, or the like, and any other similar type of unintentional error which the Secretary considers ministerial.”

We analyzed the ministerial error comments and determined, in accordance with section 751(h) of the Act and 19 CFR 351.224(e) and (f), that we made the following ministerial errors: ⁶

⁶ See Memorandum, “Countervailing Duty Administrative Review of Crystalline Silicon Photovoltaic Cells, Whether or Not Assembled Into Modules, from the People's Republic of China: Allegations of Ministerial Errors in the Final Results,” dated concurrently with, and hereby adopted by, this notice.

(1) In the Final Results, we inadvertently did not include the sales from one of JA Solar's certain cross-owned affiliates when calculating its sales denominator for the Provision of Solar Grade Polysilicon for LTAR program.

(2) We incorrectly calculated the benefit for certain of JA Solar's cross-owned affiliates with respect to the Provision of Land for LTAR Program by erroneously applying POR payments to separate land parcels instead of applying these payments to a single parcel; incorrectly relying on the land benchmark price instead of the benefit at the time of receipt to allocate benefits across the average useful life, including the POR and; incorrectly including a land parcel in JA Solar's benefit calculation even though benefits from this land parcel were expensed prior to the POR.

(3) As noted by Risen Energy, we applied an incorrect inland freight value when building Risen Energy's benchmarks for the Provision of Solar Glass for LTAR and the Provision of Aluminum Extrusions for LTAR program.

(4) We incorrectly referenced Trina Solar as “Trina Solar Energy Co., Ltd.,” instead of as “Trina Solar Co., Ltd.” when listing the Non-Selected Companies Under Review.

(5) Finally, we independently identified a ministerial error which was committed when we inadvertently did not include Shanghai JA Solar Technology Co., Ltd. as one of JA Solar's cross-owned entities in the Final Results.

We find that we did not commit a ministerial error by not including “LONGi Solar Technology Co., Ltd.” in the name that we used to identify LERRI, because a review was requested and initiated under the name LERRI and not under LONGi.⁷ Thus, our omission of LONGi was not a ministerial error.

⁷ See Initiation of Antidumping and Countervailing Duty Administrative Reviews, 84 FR 9297 (March 14, 2019).

Amended Final Results of Review

As a result of correcting the ministerial errors as alleged by JA Solar and Risen Energy, we determine that the following countervailable subsidy rates exist for the POR:

⁸ As identified in the Final Results, JA Solar is cross-owned with Shanghai JA Solar Technology Co., Ltd.; JA (Hefei) Renewable Energy Co., Ltd.; Hefei JA Solar Technology Co., Ltd.; JA Solar Investment China Co., Ltd.; JA Solar Technology Yangzhou Co., Ltd.; Jing Hai Yang Semiconductor Material (Donghai) Co., Ltd.; Donghai JingAo The Solar Energy Science and Technology Co., Ltd.; Solar Silicon Valley Electronic Science and Technology Co., Ltd.; Jingwei Electronic Materials Co., Ltd.; Hebei Yujing Electronic Science and Technology Co., Ltd.; Solar Silicon Peak Electronic Science and Technology Co., Ltd.; Beijing Jinfeng Investment Co., Ltd.; Jinglong Technology Holdings Co., Ltd.; JingAo Solar Co., Ltd.; Ningjin Songgong Electronic Materials Co., Ltd.; Jinglong Industry and Commerce Group Co., Ltd.; Ningjin Guiguang Electronic Investment Co., Ltd.; Ningjin County Jingyuan New Energy Investment Co., Ltd.; Hebei Jinglong Fine Chemicals Co., Ltd.; Ningjin Sunshine New Energy Co., Ltd.; Hebei Jinglong Sunshine Equipment Co., Ltd.; Hebei Jingle Optoelectronic Technology Co., Ltd.; Hebei Ningjin Songgong Semiconductor Co., Ltd.; Ningjin Jingxing Electronic Material Co., Ltd.; Ningjin Jingfeng Electronic Materials Co., Ltd.; Ningjin Saimei Ganglong Electronic Materials Co., Ltd.; Hebei Ningtong Electronic Materials Co., Ltd.; Ningjin Changlong Electronic Materials Manufacturing Co. Ltd.; JA Solar (Xingtai) Co., Ltd.; Xingtai Jinglong Electronic Material Co., Ltd.; Xingtai Jinglong PV Materials Co., Ltd.; Taicang Juren PV Material Co., Ltd.; JA PV Technology Co., Ltd.; Ningjin Longxin Investment Co., Ltd.; and Ningjin Jinglong PV Industry Investment Co., Ltd.

⁹ As identified in the Final Results, Risen Energy is cross-owned with Changzhou Sveck Photovoltaic New Material Co., Ltd.; Changzhou Sveck New Material Technology Co., Ltd.; JiuJiang Shengchao Xinye Technology Co., Ltd.; Jiangsu Sveck New Material Co., Ltd.; Ninghai Risen Energy Power Development Co., Ltd.; Risen (Luoyang) New Energy Co., Ltd.; Risen (Ningbo) Electric Power Development Co., Ltd.; Risen (Wuhai) New Energy Co., Ltd.; Zhejiang Boxin Investment Co., Ltd.; and Zhejiang Twinsel Electronic Technology Co., Ltd.

¹⁰ See the Appendix to this notice.

Company | Subsidy rate (ad valorem) (percent)
JA Solar Technology Yangzhou, Co., Ltd. (JA Solar) ⁸ | 14.43
Risen Energy Co., Ltd. (Risen Energy) ⁹ | 10.86
Non-Selected Companies Under Review ¹⁰ | 11.97

Assessment Rates/Cash Deposit Rates

Normally, Commerce would issue appropriate assessment instructions to U.S. Customs and Border Protection (CBP) 35 days after the date of publication of these amended final results of review, to liquidate shipments of subject merchandise produced and/or exported by the companies listed above entered, or withdrawn from warehouse, for consumption on or after January 1, 2017, through December 31, 2017. However, between January 15 and February 3, 2021, the Court of International Trade (the Court) enjoined liquidation of certain entries that are subject to the Final Results.¹¹ Accordingly, Commerce will not instruct CBP to assess countervailing duties on those enjoined entries pending resolution of the associated litigation.

¹¹ The Court issued statutory injunctions under case number 20-03912, dated January 15, 2021, and February 3, 2021.

Commerce intends to instruct CBP to collect cash deposits of estimated countervailing duties, in the amounts shown above for the companies listed above, on shipments of subject merchandise entered, or withdrawn from warehouse, for consumption, on or after December 9, 2020, which is the date of the Final Results. For all non-reviewed firms, Commerce will instruct CBP to collect cash deposits at the most recent company-specific or all-others rate applicable to the company, as appropriate. These cash deposits, when imposed, shall remain in effect until further notice.

Administrative Protective Order

This notice also serves as a reminder to parties that are subject to administrative protective order (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Disclosure

Commerce intends to disclose the calculations performed for these amended final results to interested parties within five business days of the date of this notice in accordance with 19 CFR 351.224(b).

Notification to Interested Parties

Commerce is issuing and publishing these amended final results in accordance with sections 751(h) and 771(i)(1) of the Act, and 19 CFR 351.224(e).

Dated: March 29, 2021.
Christian Marsh,
Acting Assistant Secretary for Enforcement and Compliance.

Appendix

Non-Selected Companies Under Review

1. Anji DaSol Solar Energy Science & Technology Co., Ltd.

2. Baoding Jiasheng Photovoltaic Technology Co., Ltd.

3. Baoding Tianwei Yingli New Energy Resources Co., Ltd.

4. Beijing Tianneng Yingli New Energy Resources Co., Ltd.

5. BYD (Shangluo) Industrial Co., Ltd.

6. Canadian Solar (USA) Inc.

7. Canadian Solar Inc.

8. Canadian Solar International Ltd.

9. Canadian Solar Manufacturing (Changshu) Inc.

10. Canadian Solar Manufacturing (Luoyang) Inc.

11. Changzhou Trina Solar Yabang Energy Co., Ltd.

12. CSI Cells Co., Ltd.

13. CSI-GCL Solar Manufacturing (Yancheng) Co., Ltd.

14. De-Tech Trading Limited HK

15. Dongguan Sunworth Solar Energy Co., Ltd.

16. Eoplly New Energy Technology Co., Ltd.

17. ERA Solar Co., Ltd.

18. ET Solar Energy Limited

19. Hainan Yingli New Energy Resources Co., Ltd.

20. Hangzhou Sunny Energy Science and Technology Co., Ltd.

21. Hengdian Group DMEGC Magnetics Co., Ltd.

22. Hengshui Yingli New Energy Resources Co., Ltd.

23. Hubei Trina Solar Energy Co., Ltd.

24. JA Technology Yangzhou Co., Ltd.

25. Jiangsu High Hope Int'l Group

26. Jiawei Solarchina (Shenzhen) Co., Ltd.

27. Jiawei Solarchina Co., Ltd.

28. Jinko Solar (U.S.) Inc.

29. Jinko Solar Co., Ltd.

30. Jinko Solar Import and Export Co., Ltd.

31. Jinko Solar International Limited

32. LERRI Solar Technology Co., Ltd.

33. Lightway Green New Energy Co., Ltd.

34. Lixian Yingli New Energy Resources Co., Ltd.

35. Luoyang Suntech Power Co., Ltd.

36. Nice Sun PV Co., Ltd.

37. Ningbo ETDZ Holdings, Ltd.

38. Ningbo Qixin Solar Electrical Appliance Co., Ltd.

39. Shanghai BYD Co., Ltd.

40. Shenzhen Sungold Solar Co., Ltd.

41. Shenzhen Yingli New Energy Resources Co., Ltd.

42. Sumec Hardware & Tools Co., Ltd.

43. Sunpreme Solar Technology (Jiaxing) Co., Ltd.

44. Systemes Versilis, Inc.

45. Taizhou BD Trade Co., Ltd.

46. TenKsolar (Shanghai) Co., Ltd.

47. Tianjin Yingli New Energy Resources Co., Ltd.

48. Tianneng Yingli New Energy Resources Co., Ltd.

49. Toenergy Technology Hangzhou Co., Ltd.

50. Trina Solar (Changzhou) Science & Technology Co., Ltd.

51. Trina Solar Co., Ltd. (formerly known as Changzhou Trina Solar Energy Co., Ltd.)

52. Turpan Trina Solar Energy Co., Ltd.

53. Wuxi Suntech Power Co., Ltd.

54. Wuxi Tianran Photovoltaic Co., Ltd.

55. Yancheng Trina Solar Energy Technology Co., Ltd.

56. Yingli Energy (China) Co., Ltd.

57. Yingli Green Energy Holding Company Limited

58. Yingli Green Energy International Trading Company Limited

59. Zhejiang ERA Solar Technology Co., Ltd.

60. Zhejiang Jinko Solar Co., Ltd.

[FR Doc. 2021-06786 Filed 4-1-21; 8:45 am]

BILLING CODE 3510-DS-P